DEPARTMENT OF TRANSPORTATION

Surface Transportation Board

[STB Finance Docket No. 34194 (Sub-No. 1)]

The Burlington Northern and Santa Fe Railway Company—Trackage Rights; Exemption—Union Pacific Railroad Company

AGENCY: Surface Transportation Board.

ACTION: Petition for exemption.

SUMMARY: The Board, under 49 U.S.C. 10502, exempts the trackage rights described in STB Finance Docket No. 34194 ¹ to permit the trackage rights arrangement to extend only until August 30, 2002.

¹ On April 8, 2002, BNSF filed a notice of exemption under the Board's class exemption procedures at 49 CFR 1180.2(d)(7). The notice covered the trackage rights agreement by UP to grant temporary overhead trackage rights to BNSF between UP milepost 2.3 in Omaha, NE, and UP milepost 76.0 in Sioux City, IA, a distance of 73.7 miles. See The Burlington Northern and Santa Fe Railway Company—Trackage Rights Exemption—Union Pacific Railroad Company, STB Finance Docket No. 34194 (STB served May 1, 2002). Trackage rights operations under the exemption were scheduled to be consummated on or after April 15, 2002.

DATES: This exemption is effective on June 13, 2002. Petitions to stay must be filed by May 24, 2002. Petitions to reopen must be filed by June 3, 2002.

ADDRESSES: An original and 10 copies of all pleadings referring to STB Finance Docket No. 34194 (Sub-No. 1) must be filed with the Surface Transportation Board, Case Control Unit, 1925 K Street, NW., Washington, DC 20423-0001. In addition, a copy of all pleadings must be served on petitioner's representative Michael E. Roper, The Burlington Northern and Santa Fe Railway Company, 2500 Lou Menk Drive, P.O. Box 961039, Fort Worth, TX 76161-0039.

FOR FURTHER INFORMATION CONTACT: Beryl Gordon, (202) 565-1600. [TDD for the hearing impaired: 1-800-877-8339.]

SUPPLEMENTARY INFORMATION: Additional information is contained in the Board's decision. To purchase a copy of the full decision, write to, call, or pick up in person from: Dā 2 Dā Legal, Suite 405, 1925 K Street, NW, Washington, DC 20006. Telephone: (202) 293-7776. [Assistance for the hearing impaired is available through TDD Services 1-800-877-8339.]

Board decisions and notices are available on our Web site at www.stb.dot.gov.

Decided: May 8, 2002.
By the Board, Chairman Morgan and Vice Chairman Burkes.
Vernon A. Williams,
Secretary.

[FR Doc. 02-12028 Filed 5-13-02; 8:45 am]

BILLING CODE 4915-00-P